DEPARTMENT OF THE INTERIOR

Fish and Wildlife Service

50 CFR Part 17

RIN 1018-AH07

Endangered and Threatened Wildlife and Plants; Notice of Availability of Draft Economic Analysis, Reopening of Comment Period, and Notice of Public Hearing for the Proposed Critical Habitat Determination for the San Bernardino Kangaroo Rat

AGENCY: Fish and Wildlife Service, Interior.

ACTION: Proposed rule; notice of availability of draft economic analysis, reopening of public comment period, and notice of public hearing.

SUMMARY: We, the U.S. Fish and Wildlife Service (Service), announce the availability of the draft economic analysis for the proposed determination of critical habitat for the San Bernardino kangaroo rat (Dipodomys merriami parvus) and the reopening of the public comment period for the proposed determination to allow all interested parties to submit written comments on the proposal and on the draft economic analysis. Comments previously submitted need not be resubmitted as they already have been incorporated into the public record and will be fully considered in the final rule. Additionally, we are announcing that public hearings will be held on our proposal.

DATES: The original public comment period on the critical habitat proposal closed on February 6, 2001. The public comment period is reopened, and we will accept comments until October 4, 2001. Comments must be received by 5:00 p.m. on the closing date. Any comments that are received after the closing date may not be considered in the final decision on this action. The public hearing will be held on Thursday, September 20, 2001, from 1:00 p.m. to 3:00 p.m. and from 6:00 p.m. to 8:00 p.m. in San Bernardino, California.

ADDRESSES: The public hearing will be held at the Radisson Hotel San Bernardino, 295 North E Street, San Bernardino, California. Copies of the draft economic analysis and proposed critical habitat determination are available on the Internet at http://carlsbad.fws.gov or by writing to the Field Supervisor, U.S. Fish and Wildlife Service, Carlsbad Fish and Wildlife Office, 2730 Loker Avenue West, Carlsbad, California, 92008. Written comments should be sent to the Field Supervisor. You may also send comments by electronic mail (e-mail) to fw1cfwo_sbkr@fws.gov. Please submit comments in ASCII file format and avoid the use of special characters and encryption. Please include “Attn: San Bernardino kangaroo rat” and your name and return address in your e-mail message. If you do not receive a confirmation from the system that we have received your e-mail message, contact us directly by calling our Carlsbad Fish and Wildlife Office at telephone number 760-431-9440. Comments and materials received will be available for public inspection, by appointment, during normal business hours at the Carlsbad Fish and Wildlife Office, at the above address.

FOR FURTHER INFORMATION CONTACT: Mark A. Elvin, Carlsbad Fish and Wildlife Office, at the above address (telephone 760-431-9440; facsimile 760-431-9624).

SUPPLEMENTARY INFORMATION:

Background

The San Bernardino kangaroo rat (Dipodomys merriami parvus), a member of the family Heteromyidae, is one of 19 recognized subspecies of Merriam's kangaroo rat (D. merriami), a widespread species distributed throughout arid regions of the western United States and northwestern Mexico (Hall and Kelson 1959, Williams et al. 1993). The San Bernardino kangaroo rat is considerably darker and smaller than either of the other two subspecies of Merriam's kangaroo rat that occur in southern California, D. merriami merriami and D. merriami collinus. It is the only kangaroo rat with four toes on each of its hind feet and the body color is pale yellow with a heavy overwash of dusky brown. The tail stripes are medium to dark brown and the foot pads and tail hairs are dark brown. The flanks and cheeks of the subspecies are dusky (Lidicker 1960).

San Bernardino kangaroo rats are typically found on alluvial fans (relatively flat or gently sloping masses of loose rock, gravel, and sand deposited by a stream as it flows into a valley or upon a plain), flood plains, along washes, in adjacent upland areas containing appropriate physical and vegetative characteristics (McKernan 1997), and in areas with historic braided channels (McKernan in litt. 1999). These areas consist of sand, loam, sandy loam, or gravelly soils (McKernan 1993, Braden and McKernan 2000) that are associated with alluvial processes (i.e., the deposition of clay, silt, sand, gravel, or similar material by running water such as rivers and streams; debris flows). These soils allow kangaroo rats to dig simple, shallow burrow systems (McKernan 1997), and typically support alluvial sage scrub and chaparral vegetation.

The historical range of this species extends from the San Bernardino Valley in San Bernardino County to the Menifee Valley in Riverside County (Hall and Kelson 1959, Lidicker 1960). At the time the Service listed the species under the Endangered Species Act (Act), we estimated that the historical range encompassed approximately 130,587 hectares (ha) (326,467 acres (ac)) (U.S. Fish and Wildlife Service unpubl. GIS maps, 1998; in 63 FR 51005). This estimation was based on the distribution of suitable soils and museum collections of this species. Recent studies indicate that the species occupies a wider range of soil and vegetation types than previously thought (Braden and McKernan 2000), which suggests that the species' historical range may have been larger than we estimated at the time of listing.

The San Bernardino kangaroo rat was emergency listed as endangered on January 27, 1998; concurrently, a proposal to make provisions of the emergency listing permanent also was published (63 FR 3835 and 63 FR 3877). On September 24, 1998, we published a final rule determining the San Bernardino kangaroo rat to be an endangered species (63 FR 51005). On December 8, 2000, we published a rule proposing critical habitat for the San Bernardino kangaroo rat (65 FR 77178). We proposed designation of approximately 22,423 ha (55,408 ac) as critical habitat for the San Bernardino kangaroo rat pursuant to the Act. Proposed critical habitat is in southern San Bernardino and western Riverside Counties, California, as described in the proposed rule.

Section 4(b)(2) of the Act requires that the Secretary shall designate or revise critical habitat based upon the best scientific and commercial data available and after taking into consideration the economic impact of specifying any particular area as critical habitat. Based upon the previously published proposal to designate critical habitat for the San Bernardino kangaroo rat and comments received during the previous comment period, we have prepared a draft economic analysis of the proposed critical habitat designation, which is available at the above Internet and mailing address.

Section 4(b)(5)(E) of the Act (16 U.S.C. 1531 et seq.) requires that a public hearing be held if it is requested within 45 days of the publication of a proposed rule. In response to a request from the San Bernardino International Airport Authority, the Service will hold a public hearing on the date and at the address described in the DATES and ADDRESSES sections above.

Anyone wishing to make an oral statement for the record is encouraged to provide a written copy of their statement and present it to the Service at the hearing. In the event there is a large attendance, the time allotted for oral statements may be limited. Oral and written statements receive equal consideration. There are no limits to the length of written comments presented at the hearing or mailed to the Service. Legal notices announcing the date, time, and location of the hearing will be published in newspapers concurrently with this Federal Register notice.

Comments from the public regarding the accuracy of this proposed rule are sought, especially regarding:

(1) The reasons why any habitat should or should not be determined to be critical habitat as provided by section 4 of the Act, including whether the benefits of designation will outweigh any threats to the species due to designation;

(2) Specific information on the amount and distribution of the San Bernardino kangaroo rat habitat, and what habitat is essential to the conservation of the species and why;

(3) Land use practices and current or planned activities in the subject areas and their possible impacts on proposed critical habitat;

(4) Any foreseeable economic or other impacts resulting from the proposed designation of critical habitat, in particular, any impacts on small entities or families; and

(5) Economic and other values associated with designating critical habitat for the San Bernardino kangaroo rat, such as those derived from non-consumptive uses (e.g., hiking, camping, bird-watching, enhanced watershed protection, improved air quality, increased soil retention, “existence values,” and reductions in administrative costs).

Reopening of the comment period will enable the Service to respond to the request for a public hearing on the proposed action. The comment period on this proposal now closes on October 4, 2001. Written comments should be submitted to the Service office listed in the ADDRESSES section.

Public Hearing

A public hearing on the proposed determination of critical habitat for the San Bernardino kangaroo rat is scheduled to be held on Thursday, September 20, 2001, from 1:00 p.m. to 3:00 p.m. and from 6:00 p.m. to 8:00 p.m. at Radisson Hotel San Bernardino, 295 North E Street, San Bernardino, California. Please contact the Carlsbad Fish and Wildlife Office at the above address with any questions concerning this public hearing.

Public Comment Solicited

We have reopened the comment period at this time in order to accept the best and most current scientific and commercial data available regarding the proposed critical habitat determination for the San Bernardino kangaroo rat and the draft economic analysis of proposed critical habitat determination. Previously submitted written comments on this critical habitat proposal need not be resubmitted. The current comment period on this proposal closes on October 4, 2001. Written comments should be submitted to the Carlsbad Fish and Wildlife Office in the ADDRESSES section.

Author

The primary author of this notice is Mark A. Elvin (see ADDRESSES section).

Authority

The authority for this action is the Endangered Species Act of 1973 (16 U.S.C. 1531 et seq.).

Steve Thompson,
Acting Manager, California/Nevada Operations Office, Region 1.

[FR Doc. 01-21405 Filed 8-31-01; 8:45 am]

BILLING CODE 4310-55-P